DEPARTMENT OF HOMELAND SECURITY

United States Coast Guard

[Docket No USCG-2025-0242]

Recertification of Cook Inlet Regional Citizens' Advisory Council

AGENCY: Coast Guard, DHS.

ACTION: Notice of recertification.

SUMMARY: The Coast Guard announces the recertification of the Cook Inlet Regional Citizens' Advisory Council (CIRCAC) as an alternative voluntary advisory group for Cook Inlet, Alaska. On June 13, 2025, CIRCAC requested an annual recertification in accordance with the 2002 revised recertification procedures. Based on the submitted recertification application, there have been no substantive changes to the information provided at the last triennial recertification.

DATES: This recertification is effective for the period from September 1, 2025, through August 31, 2026.

FOR FURTHER INFORMATION CONTACT: For information about this document, call or email LT Case Kuikhoven, United States Coast Guard Arctic District, by phone at (907) 463-2809 or email at case.a.kuikhoven@uscg.mil.

SUPPLEMENTARY INFORMATION:

Background and Purpose

On December 31, 1992, the Coast Guard published Guidelines for Recertification of Alternative Voluntary Groups In Lieu of a Council (57 FR 62600) to assist groups seeking recertification under the Oil Terminal and Oil Tanker Environmental Oversight and Monitoring Act of 1990 (33 U.S.C. 2732) (the OPA 90 Act). On July 7, 1993, the Coast Guard published a notice (58 FR 36504) identifying the factors that the Coast Guard would consider in making its determination as to whether advisory groups should be certified in accordance with the OPA 90 Act, and the procedures which the Coast Guard would follow in meeting its recertification responsibilities under the OPA 90 Act. On September 16, 2002, the Coast Guard published revised recertification procedure for alternative voluntary advisory groups established in lieu of councils (67 FR 58440). According to the revised procedures, an applicant alternative group requesting recertification is required to provide the Coast Guard with a comprehensive application once every 3 years (triennially). For each of the two years between the triennial application procedures, the applicant utilizes a streamlined process and submits a recertification application describing any substantive changes to the information provided at the previous triennial recertification. Public comment is only solicited during the triennial comprehensive review. 2025 is the year for the streamlined process.

Since the last triennial recertification application submitted by CIRCAC on June 20, 2023 (88 FR 39857), there have been no substantive changes to the CIRCAC's plans and activities and CIRCAC can be recertified based on the information previously presented to the Coast Guard. We published the last recertification announcement on August 31, 2023 (88 FR 60221).

Recertification

By letter to CIRCAC dated September 1, 2025, the Commander, Coast Guard Arctic District, recertified that the CIRCAC qualifies as an alternative voluntary advisory group under 33 U.S.C. 2732(o). This recertification terminates on August 31, 2026.

R.R. Little,
Rear Admiral, U.S. Coast Guard, Commander, United States Coast Guard Arctic District.

[FR Doc. 2025-20289 Filed 11-18-25; 8:45 am]

BILLING CODE 9110-04-P